DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Adrian and Blissfield Railroad

[Waiver Petition Docket Number FRA-2009-0113]

The Adrian and Blissfield Railroad (ADBF), a Class III railroad located in Lenawee County in the State of Michigan, seeks a waiver of compliance from the requirements of 49 CFR 223.15 Requirements for existing passenger cars. Specifically, ADBF has petitioned FRA for a waiver for passenger coach ADBF 3370, Columbia River, which was built for the Union Pacific Railroad in 1949. ADBF operates this car in a dinner train exclusively on ADBF tracks in a rural area at speeds not exceeding 15 miles per hour on a 16-mile round trip.

ADBF states that passenger car ADBF 3370 is equipped with double pane safety glass. In the 15 years of operation in its present service, neither this car nor the two passenger cars it normally operates with have suffered any glazing breakage due to an accident or act of vandalism. The petitioner additionally states that preliminary estimates for upgrading this car to FRA Type I and II glazing are in the range of $20,000 to $30,000, which is the approximate value of the railcar.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0113) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on January 19, 2010.
Grady C. Cothen, Jr.,
Deputy Associate Administrator for Safety Standards and Program Development.

[FR Doc. 2010-1228 Filed 1-21-10; 8:45 am]

BILLING CODE 4910-06-P